INTERNATIONAL TRADE COMMISSION

[USITC SE-17-032]

Government in the Sunshine Act Meeting Notice

AGENCY HOLDING THE MEETING: United States International Trade Commission.

DATE AND TIME: August 4, 2017 at 11:00 a.m.

PLACE: Room 101, 500 E Street SW., Washington, DC 20436, Telephone: (202) 205-2000.

STATUS: Open to the public.

Matters To Be Considered

1. Agendas for future meetings: None

2. Minutes

3. Ratification List

4. Vote in Inv. Nos. 701-TA-582 and 731-TA-1377 (Preliminary) (Ripe Olives from Spain). The Commission is currently scheduled to complete and file its determinations on August 7, 2017; views of the Commission are currently scheduled to be completed and filed on August 14, 2017

5. Outstanding action jackets: None

In accordance with Commission policy, subject matter listed above, not disposed of at the scheduled meeting, may be carried over to the agenda of the following meeting.

By order of the Commission.
Issued: July 25, 2017.
William R. Bishop,
Supervisory Hearings and Information Officer.

[FR Doc. 2017-16031 Filed 7-26-17; 11:15 am]

BILLING CODE 7020-02-P